DEPARTMENT OF TRANSPORTATION

Office of the Secretary of Transportation

Department of Transportation Final Environmental Justice Strategy

AGENCY: Office of the Secretary of Transportation, DOT.

ACTION: Notice.

SUMMARY: The Department of Transportation is issuing a revised environmental justice strategy, which sets forth DOT's commitment to identifying and addressing disproportionately high and adverse human health and environmental effects of agency policies and activities on minority and low-income populations. This strategy is published as a final document; however, it is a revision of a previous version published in 1995, and may be adjusted periodically in the future to reflect new insights acquired through implementation and changing social and technological conditions.

The strategy has been revised in response to an interagency Memorandum of Understanding on Environmental Justice (EJ MOU), confirming the importance of addressing environmental justice considerations in agency programs, policies, and activities. The strategy identifies actions the Department intends to take to implement Executive Order 12898, “Federal Actions to Address Environmental Justice in Minority Populations and Low-Income Populations”, signed by President Clinton on February 11, 1994. This Executive Order directs agencies to identify and address disproportionately high and adverse impacts on minority and low-income populations with respect to human health and environment. The EJ MOU acknowledges the continued importance of EJ and participating Federal agencies pledged to review and update existing EJ strategies. This updated EJ strategy reflects DOT's continued commitment to EJ principles and to integrating those principles into DOT programs, policies, and activities.

The revised strategy is publicly available on the DOT Web site at: http://www.fhwa.dot.gov/environment/environmental_justice/ej_at_dot/dot_ej_strategy/.

FOR FURTHER INFORMATION CONTACT: Rebecca Higgins, Office of Safety, Energy, and Environment, Office of the Assistant Secretary for Transportation Policy, telephone (202) 366-7098, or EJ@dot.gov, U.S. Department of Transportation, 1200 New Jersey Ave. SE., Washington DC 20590.

Issued in Washington, DC, on the 2nd day of March 2012.
Ray LaHood,
Secretary, Department of Transportation.

[FR Doc. 2012-7296 Filed 3-27-12; 8:45 am]

BILLING CODE 4910-9X-P